DEPARTMENT OF COMMERCE

50 CFR Part 300

National Oceanic and Atmospheric Administration

[Docket No. 030124019-3040-02; I.D. 010703B]

RIN 0648-AQ67

Pacific Halibut Fisheries; Catch Sharing Plan; Correction

AGENCY: National Marine Fisheries Service (NMFS), NationalOceanic and Atmospheric Administration (NOAA), Commerce.

ACTION: Final rule; correction.

SUMMARY: This document contains a correction to the final rule published on March 7, 2003, for the Pacific halibut fisheries catch sharing plan.

DATES: Effective March 24, 2003.

FOR FURTHER INFORMATION CONTACT: Jay Ginter, 907-586-7228 or Jamie Goen, 206-526-6140.

SUPPLEMENTARY INFORMATION: The final rule was published in the Federal Register on March 7, 2003 (68 FR 10989). The Catch Limits table that was published under Section 11 contained errors that require correction. The table is corrected to reflect the addition of zeros that were inadvertently deleted from the published document.

This document corrects the errors and republishes the table.

Corrections

In the rule FR Doc. 03-5171, in the issue of Thursday, March 7, 2003 (68 FR 10989) on page 10994, under 11. Catch Limits, the table in column 3 is corrected to read as follows:

Regulatory Area | Catch Limit: Pounds | Catch Limit: Metric tons
2A: directed commercial, and incidental commercial during salmon troll fishery | 262,000 | 118.8
2A: incidental commercial during sablefish fishery | 70,000 | 31.7
2B | 11,750,000 | 5,328.8
2C | 8,500,000 | 3,854.9
3A | 22,630,000 | 10,263.0
3B | 17,130,000 | 7,768.7
4A | 4,970,000 | 2,254.0
4B | 4,180,000 | 1,895.7
4C | 2,030,000 | 920.6
4D | 2,030,000 | 920.6
4E | 390,000 | 176.9

Authority: 16 U.S.C. 1801 et seq.

Dated: March 18, 2003.
Rebecca Lent,
Deputy Assistant Administrator for Regulatory Programs, National Marine Fisheries Service.

[FR Doc. 03-6956 Filed 3-21-03; 8:45 am]

BILLING CODE 3510-22-S